DEPARTMENT OF DEFENSE

Office of the Secretary

[Transmittal No. 20-87]

Arms Sales Notification

AGENCY: Defense Security Cooperation Agency, Department of Defense (DoD).

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-87 with attached Policy Justification and Sensitivity of Technology.

Dated: December 17, 2020.
Kayyonne T. Marston,
Alternate OSD Federal Register Liaison Officer, Department of Defense.

BILLING CODE 5001-06-P

BILLING CODE 5001-06-C

Transmittal No. 20-87

Notice of Proposed Issuance of Letter of Offer Pursuant to Section 36(b)(1) of the Arms Export Control Act, as Amended

(i) Prospective Purchaser: Taipei Economic and Cultural Representative Office in the United States (TECRO)

(ii) Total Estimated Value:

Major Defense Equipment * | $ 0 million
Other | $280 million
Total | $280 million

(iii) Description and Quantity or Quantities of Articles or Services under Consideration for Purchase: TECRO has requested to buy a Field Information Communications System (FICS), consisting of:

Major Defense Equipment (MDE): None

Non-MDE: One hundred fifty-four (154) Communications Nodes (CN) with S-788 Type III shelter; twenty-four (24) Communication Relays with S-788 Type III shelter; eight (8) Network Management Systems (NMS) with S-788 Type III shelter; Basic Issue Items (BII); program management support; verification testing; system technical support; transportation; spare and repair parts; communication support equipment; communication equipment integration; tools and test equipment; personnel training and training equipment; initial repair and return program; Additional Authorized List (AAL); technical manuals; Quality Assurance Team (QAT); U.S. Government and contractor engineering; technical and logistics support services; contractor provided training; Field Service Representatives (FSR); and other related elements of logistics and program support.

(iv) Military Department: Army (TW-B-ZAW)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: December 7, 2020

*As defined in Section 47(6) of the Arms Export Control Act.

POLICY JUSTIFICATION

Taipei Economic and Cultural Representative Office in the United States (TECRO)—Field Information Communications System (FICS)

TECRO has requested to buy a Field Information Communications System (FICS), consisting of one hundred fifty-four (154) Communications Nodes (CN) with S-788 Type III shelter; twenty-four (24) Communication Relays with S-788 Type III shelter; eight (8) Network Management Systems (NMS) with S-788 Type III shelter; Basic Issue Items (BII); program management support; verification testing; system technical support; transportation; spare and repair parts; communication support equipment; communication equipment integration; tools and test equipment; personnel training and training equipment; initial repair and return program; Additional Authorized List (AAL); technical manuals; Quality Assurance Team (QAT); U.S. Government and contractor engineering; technical and logistics support services; contractor provided training; Field Service Representatives (FSR); and other related elements of logistics and program support. The total estimated program cost is $280 million.

This proposed sale is consistent with U.S. law and policy as expressed in Public Law 96-8.

This proposed sale serves U.S. national, economic, and security interests by supporting the recipient's continuing efforts to modernize its armed forces and to maintain a credible defensive capability. The proposed sale will help improve the security of the recipient and assist in maintaining political stability, military balance, economic and progress in the region.

This proposed sale is designed to provide mobile and secure communications. It will contribute to the recipient's goal to modernize its military communication's capability in support of their mission and operational needs. The recipient will have no difficulty absorbing these systems into its armed forces.

The proposed sale of this equipment and support will not alter the basic military balance in the region.

The principal contractor is currently unknown due to a pending open competition for selection. The purchaser typically requests offsets. Any offset agreement will be defined in negotiations between the purchaser and the contractor(s).

Implementation of this proposed sale will not require the permanent assignment of any additional U.S. Government or contractor representatives to the recipient. Contractor representative and U.S. Government support teams may be required to travel to the country on a temporary basis.

There will be no adverse impact on U.S. defense readiness as a result of this proposed sale.

Transmittal No. 20-87

Notice of Proposed Issuance of Letter of Offer Pursuant to Section 36(b)(1) of the Arms Export Control Act

Annex

Item No. vii

(vii) Sensitivity of Technology:

1. The Field Information Communications System (FICS) is made up of commercially available, non-program of record components. The FICS system (also referred to as “Syun Lien”) is an area-switched communications system which is designed to provide mobile and secure communications in a wide range of battle situations. The FICS system provides mobile and secure voice and data communications on an automatic, discrete addressed, fixed-directory basis to the military Tactical Operations Center (TOC)-level command posts (CPs), and remote (mobile) users employing technological improvements in radio transmissions, data networking and packetized voice, while minimizing system footprint (power, size, personnel and logistics train). The system supports both mobile and wire subscribers with a means to exchange command, control, communications, and intelligence information in a dynamic tactical environment.

2. The highest level of classification of defense articles, components, and services included in this potential sale is UNCLASSIFIED.

3. If a technologically advanced adversary were to obtain knowledge of the hardware and software elements, the information could be used to develop countermeasures or equivalent systems, which might reduce system effectiveness or be used in the development of a system with similar or advanced capabilities.

4. A determination has been made that the recipient can provide substantially the same degree of protection for the sensitive technology being released as the U.S. Government. This sale is necessary in furtherance of the U.S. foreign policy and national security objectives outlined in the Policy Justification.

5. All defense articles and services listed in this transmittal have been authorized for release and export to the recipient.

[FR Doc. 2020-28201 Filed 12-21-20; 8:45 am]

BILLING CODE 5001-06-P